DEPARTMENT OF TRANSPORTATION

National Highway Traffic Safety Administration

[U.S. DOT Docket Number NHTSA-2003-15170]

Reports, Forms and Record Keeping Requirements; Agency Information Collection Activity Under OMB Review

AGENCY: National Highway Traffic Safety Administration, DOT.

ACTION: Request for public comment on proposed extension of collection of information.

SUMMARY: The Department of Transportation is submitting the following request for extension of public information collection to the Office of Management and Budget for review and clearance under the Paperwork Reduction Act of 1995 (Pub. L. 104-13, 44 U.S.C. chapter 35.) This notice announces that a request for an extension of the Information Collection Request (ICR) abstracted below will be forwarded to the Office of Management and Budget (OMB) for review and comment. The ICR describes the nature of the information collections and their expected burden. Comments should be directed to the Office of Information and Regulatory Affairs, Office of Management and Budget, 725—17th Street, NW., Washington, DC 20503, Attention NHTSA Desk Officer.

DATES: Comments must be received on or before August 1, 2003.

FOR FURTHER INFORMATION CONTACT: Kristin Thiriez, NHTSA 400 Seventh Street, SW., Room 6213, NPO.122, Washington, DC 20590. The telephone number for Ms. Thiriez is (202) 366-2837.

SUPPLEMENTARY INFORMATION:

National Highway Traffic Safety Administration

Title: National Automotive Sampling System (NASS)—Tire Pressure Monitoring System Study (TPMSS).

Type of Request: Extension of a currently approved collection.

OMB Control Number: 2127-0626.

Affected Public: Passenger Motor Vehicle Operators.

Abstract: The National Automotive Sampling System Tire Pressure Monitoring System Study (TPMSS) is being conducted in support of the rulemaking that requires tire pressure monitoring systems on all new vehicles effective November 2003. The stringent requirement for enactment of the rule requires that the needed data on the frequency and pervasiveness of under-inflation be collected and provided in a short period. This study will assess the extent to which passenger vehicle operators are aware of the recommended air pressure for their tires, if they monitor air pressure, and to what extent actual air pressure differs from that recommended by the vehicle manufacturer. Data will be collected on vehicles equipped with the tire pressure monitoring systems and a set of peer vehicles. The two groups will be compared by extent of under-inflation.

To minimize data collection and training costs and to ensure accuracy of the data, the TPMSS is being conducted as a special study through the infrastructure of the National Automotive Sampling System (NASS). Trained NASS crash investigators will be the data collector for the TPMSS. NASS collects nationally representative data on motor vehicle crashes for the National Highway Traffic Safety Administration (NHTSA). The collection of crash data that support the establishment and enforcement of motor vehicle regulations that reduce the severity of injury and property damage caused by motor vehicle crashes is authorized under the National Traffic and Motor Vehicle Safety Act of 1966 (Public Law 89-563, Title 1, Sec. 106, 108, and 112).

Estimated Annual Burden: 3,000 hours.

Number of Respondents: 12,000.

Issued on May 22, 2003.
H. Keith Brewer,
Director, Office of Advanced Safety Research.

[FR Doc. 03-13693 Filed 5-30-03; 8:45 am]

BILLING CODE 4910-59-M